DEPARTMENT OF THE INTERIOR

Bureau of Land Management

[NV-055-5853-EU]

Proposed Information Collection—Alternative Land-Use Planning Scenarios for the Upper Las Vegas Wash Conservation Transfer Area

AGENCY: Bureau of Land Management.

ACTION: Notice of request for comments.

SUMMARY: The Bureau of Land Management (BLM) is partnering with Utah State University to undertake a survey that will provide the BLM with social science input to support planing of the Upper Las Vegas Wash Conservation Transfer Area (CTA). The BLM anticipates that this information will assist in the decision-making process to (1) protect the fossil and plant resources; (2) allow for ecological function of the CTA; and (3) render a decision on the boundary configuration and allowable uses of the CTA that are defensible to the public, agencies, local governments, and the courts.

DATES: You have 60 days after the date of this Federal Register Notice to submit your comments to the address listed below.

ADDRESSES: You may mail or deliver comments to: Bureau of Land Management, Las Vegas Field Office, Attn: CTA Land-Use Planning Survey, 4701 North Torrey Pines Drive, Las Vegas, Nevada 89130.

You may send comments via Internet to: nv_lvfo_planning@blm.gov. Please include your name and address with comments, and title the Subject Attn: CTA Land-Use Planning Survey.

FOR FURTHER INFORMATION CONTACT: You may contact Gayle Marrs-Smith, CTA Project Manager at the address above, by telephone at (702) 515-5156, or by e-mail at Gayle_Marrs-Smith@nv.blm.gov.

SUPPLEMENTARY INFORMATION: In accordance with 5 CFR 1320.12(a), BLM must provide a 60-day notice in the Federal Register concerning a proposed collection of information to solicit comments on: (1) The practical utility of the information being gathered; (2) the accuracy of the burden hour estimate; (3) ways to enhance the quality, utility, and clarity of the information to be collected; and (4) ways to minimize the burden to respondents, including use of automated information collection techniques or other forms of information technology.

The BLM strives to include best science in rendering management decisions. The CTA is being proposed for protection. A wide variety of interested publics, local governments, developers, and utilities would be affected by BLM's decision on the boundary configuration and allowable uses within the conservation area. Information on existing urban development adjacent to the CTA and its socio-demographic composition is necessary to model future development and its potential impacts to the CTA as BLM prepares the land-use alternatives that will be analyzed as required under the National Environmental Policy Act (Pub. L. 91-190, 42 U.S.C. 4321-4347, January 1, 1970).

Title: Evaluating Alternative Land-use Planning Scenarios Survey.

Bureau Form Number: None.

OMB Control Number: TBD.

Type of Request: New Collection.

Description of Need: This proposal seeks approval to collect information from residents of selected neighborhoods in both Las Vegas and North Las Vegas via questionnaire in order to gain a better understanding of how socio-economic characteristics of nearby residential populations might affect the disturbance impacts in the CTA. These questionnaires will be used to answer questions on: Type and frequency of use within the CTA, familiarity with the CTA, levels of attachment to the CTA, attitudes and preferences regarding use and management of the CTA, behavioral intentions regarding enforcement of sanctions to protect the wash environment, and individual and household demographic information.

Automated data collection: At this time, we will not be gathering information in an automated way.

Description of Respondents: This proposal seeks approval to collect information from adults living in randomly selected households located within one half mile corridors centered along eight linear transects. These transects have been designated for use in measuring ecological and disturbance conditions within the CTA environment and extended south of the CTA into nearby areas of residential development.

Estimated average number of respondents: 1000.

Estimated average number of responses: 600.

Estimated average burden hours per response: 30 minutes.

Estimated annual reporting burden: 300 hours.

BLM will summarize all responses to this notice and include them in the request for OMB approval. All comments will be a matter of public record.

Dated: September 29, 2006.
Juan Palma,
Field Manager.

[FR Doc. 06-8632 Filed 10-11-06; 8:45 am]

BILLING CODE 4310-HC-M